DEPARTMENT OF THE INTERIOR

Fish and Wildlife Service

50 CFR Part 17

RIN 1018-AE87

Endangered and Threatened Wildlife and Plants; Reopening of Comment Period on Proposed Threatened Status for the Plant Gaura neomexicana ssp. coloradensis

AGENCY: Fish and Wildlife Service, Interior.

ACTION: Proposed rule; notice of reopening of comment period.

SUMMARY: We, the Fish and Wildlife Service (Service), pursuant to the Endangered Species Act of 1973, as amended (Act), reopen the comment period on the proposal to list the plant Gaura neomexicana ssp. coloradensis (Colorado butterfly plant) as a threatened species. The comment period is extended to accommodate the public notice requirement of the Act and to consider any new scientific information. In addition, reopening of the comment period will allow further opportunity for all interested parties to submit comments on the proposal, which was published on March 24, 1998 (63 FR 14060). We are seeking comments or suggestions from the public, other concerned governmental agencies, the scientific community, industry, or any other interested parties concerning the proposed rule. Comments already submitted on the proposed rule need not be resubmitted as they will be fully considered in the final determination.

DATES: The reopened comment period closes June 16, 2000.

ADDRESSES: Copies of the proposed rule are available on the World Wide Web at <mountain-prairie.fws.gov/endspp/plants/>. You may also request copies from, and submit comments and materials concerning this proposed rule to, the Field Supervisor, U.S. Fish and Wildlife Service, 4000 Airport Parkway, Cheyenne, Wyoming 82001. Comments and materials received will be available for public inspection, by appointment, during normal business hours at the above address.

FOR FURTHER INFORMATION CONTACT: Mike Long, Field Supervisor, Wyoming Field Office (see ADDRESSES section), telephone 307/772-2374; facsimile 307/772-2358.

SUPPLEMENTARY INFORMATION:

Background

On March 24, 1998, we published a rule proposing threatened status for Gaura neomexicana ssp. coloradensis in the Federal Register (63 FR 14060). The original comment period closed on May 26, 1998. Section 4(b)(5)(D) of the Act (16 U.S.C. 1531 et seq.) requires us to “publish a summary of the proposed regulation in a newspaper of general circulation in each area of the United States in which the species is believed to occur.” Due to an oversight, we failed to complete this requirement. To correct the oversight, we are reopening the comment period for this proposal to list G.n. ssp. coloradensis and publishing the required notices. The comment period now closes on June 16, 2000. Written comments should be submitted to the Service (see ADDRESSES section).

Gaura neomexicana ssp. coloradensis is a short-lived, perennial herb endemic to moist soils in mesic or wet meadows of floodplain areas in southeastern Wyoming, northcentral Colorado, and extreme western Nebraska. This early to mid-seral stage species occurs primarily in habitats created and maintained by streams active within their floodplains, with vegetation that is relatively open and not overly dense or overgrown. The disturbance of riparian areas that contain native grasses by agricultural conversion, water diversions, channelization, and urban development threaten G.n. ssp. coloradensis by changing habitat significantly enough to preclude survival of viable populations.

Comments from the public regarding the accuracy of this proposed rule are sought, especially regarding:

(1) Biological, commercial trade, or other relevant data concerning any threat (or lack thereof) to this species;

(2) The location of any additional populations of this species and the reasons why any habitat should or should not be determined to be critical habitat pursuant to section 4 of the Act;

(3) Additional information concerning the range, distribution, and population size or trend of this species;

(4) Current or planned activities in the subject area and their possible impacts on this species;

(5) Biological or physical elements that best describe Gaura neomexicana ssp. coloradensis habitat that could be essential for the conservation of the species;

(6) Information regarding genetic differences and similarities within and between populations of Gaura neomexicana ssp. coloradensis;

(7) Possible alternative noxious weed control, grazing, farming, and water management practices that will reduce or eliminate impacts to Gaura neomexicana ssp. coloradensis; and

(8) Other management strategies that will conserve the species throughout its range.

Comments previously submitted during the first comment period need not be resubmitted, as they will be fully considered in the final determination.

Author. The primary author of this document is Mary Jennings of the Wyoming Field Office (see ADDRESSES section).

Authority: The authority for this action is the Endangered Species Act of 1973 (16 U.S.C. 1531 et seq.).

Dated: May 2, 2000.
Jamie Rappaport Clark,
Director, Fish and Wildlife Service.

[FR Doc. 00-12122 Filed 5-16-00; 8:45 am]

BILLING CODE 4310-55-U